SOCIAL SECURITY ADMINISTRATION

[Docket No. SSA-2025-0007]

Notice of Senior Executive Service Performance Review Board Membership

AGENCY: Social Security Administration.

ACTION: Notice of Senior Executive Service Performance Review Board Membership.

Authority: Title 5, U.S. Code, 4314 (c)(4), requires that the appointment of Performance Review Board members be published in the Federal Register before service on said Board begins.

The following persons will serve on the Performance Review Board which oversees the evaluation of performance appraisals of Senior Executive Service members of the Social Security Administration:

Christopher G. Harris, Chair

Melanie Burns *

Dan Callahan

Monique Cephas *

Randoe Dice *

Karen Girardeau *

Jamie Lucero

James van der Schalie *

Shannon Wittman *

* New Member

Florence Felix,
Chief Human Capital Officer, Social Security Administration.

[FR Doc. 2025-20456 Filed 11-19-25; 8:45 am]

BILLING CODE 4191-02-P